DEPARTMENT OF THE INTERIOR

Bureau of Land Management

[CO-100-00-4370-16]

Closure and Restriction to Entry and Use

AGENCY: Bureau of Land Management, Interior.

ACTION: Notice of closure.

SUMMARY: Notice is hereby given that pursuant to the authority of the Code of Federal Regulations, Title 43, Part 8300, subpart 8364, 8364.1 (Closure and Restriction Orders), which provides, in part, for the authorized officer to close or restrict use of designated public lands for the protection of persons, property, and public lands and resources. In order to reduce the inhumane treatment as defined in 43 CFR, subpart 4700.0-5(f), this order will be in effect immediately upon publication in the Federal Register. To allow wild horses and big game animals the uninhibited use of critical watering sources, the following areas are closed and restricted from camping, construction of hunting blinds, or any other use that would disrupt normal watering periods or prevent animals from using the following watering sources.

1. Coffee Pot Spring located in T.11N., R.98W., Sec. 22, SE,NW.

2. Sheepherder Spring located in T.10N., R.98W., Sec. 8, NE,SE.

3. Wild Horse Spring located in T.10N., R.98W., Sec. 26, NE,SE.

4. Lang Spring located in T.10N., R.97W., Sec 11, NW,NE.

5. Lake Draw Windmill located in T.11N., R.98W., Sec 34, SE,SW

6. Seven Mile Windmill located in T 9N., R.97W., Sec 17, SE,NE.

7. Hydraulic Spring located in T.9N., R.98W., Sec 35, W1/2,SE.

8. Clay Buttes Reservoir located in T.9N., R.98W., Sec 29, NE,SW.

9. No Name Reservoir #1 located in T.8N., R.98W., Sec 3, NW,SW.

10. No Name Reservoir #2 located in T.9N., R.98W., Sec 28, SE,SE.

These water sources are all located within the Sand Wash Basin and more specifically within the boundary of the Sand Wash Wild Horse Herd Management Area. The actual areas restricted and closed include one half mile distance in all directions from these water sources.

The areas described above shall remain closed to the public uses mentioned, for the period August 15, 2000 through November 15, 2000. This closure notice shall not preclude travel on public roads within the one-mile restricted area, nor administrative use by Bureau of Land Management Personnel.

Any person failing to comply with this closure and restricted use order may be subject to the penalties provided in 8360.0-7, 4760.2g, and 4760.2p of Title 43 Code of Federal Regulations.

Questions may be directed to Bureau of Land Management, Little Snake Field Office, 455 Emerson Street, Craig, CO 81625, telephone number (970) 826-5000.

John E. Husband,
Field Manager.

[FR Doc. 00-20289 Filed 8-9-00; 8:45 am]

BILLING CODE 4310-JB-P